DEPARTMENT OF LABOR

Solicitation for Grant Application (SGA 01-08); High School/High Tech Start-up Grants

AGENCY: Office on Disability Employment Policy, Department of Labor.

ACTION: Notice of applicability of funds and solicitation for grant applications (SGA).

SUMMARY: The U.S. Department of Labor (DOL), Office of Disability Employment Policy (ODEP) announces the availability of $400,000 to award eight competitive grants in the amount of $50,000 each. This Solicitation for Grant Application (SGA) invites proposals from eligible candidates which include: not-for-profit organizations established under section 501(c)(3) of the Internal Revenue Code; public secondary educational institutions; Job Corps centers (no fee/profit allowed); local government entities; or Local Workforce Investment Boards. Grants will be awarded for a one-year period and may be renewed with an additional optional grant for a second year at $25,000. After these two years of support, it is anticipated that High School/High Tech (HS/HT) programs will sustain themselves with the support of other resources.

The purpose of these grants is to fund the start-up of new demonstration High School/High Tech program sites. ODEP was recently established to provide disability policy guidance to the Department of Labor and its agencies. This new office absorbed the former President's Committee on Employment of People with Disabilities (PCEPD) and its existing demonstration projects, including HS/HT. Under this SGA, these new HS/HT sites must be developed by, or in partnership with, any program that has received Workforce Investment Act of 1998 (WIA) funds to serve youth. The goal of these grants is to begin and to operate a HS/HT site for youths with disabilities either in partnership with, or led by, a WIA youth program.

HS/HT is a series of nationally established model programs designed to provide young people with disabilities with an opportunity to explore their interest in pursuing further education leading to technology-related careers. These locally directed and supported programs serve either in-school or out-of-school youth with disabilities in a year long program of corporate site visits, mentoring, job shadowing, guest speakers, after school activities and paid summer internships. This SGA is designed to demonstrate both the merits and techniques of bringing the High School/High Tech program into an alignment and full partnership with WIA's youth-related programs.

DATES: One (1) ink-signed original, complete grant application plus three (3) copies of the Technical Proposal and three (3) copies of the Cost Proposal shall be submitted to the U.S. Department of Labor, Procurement Services Center, Attention Grant Officer, Reference SGA 01-08, Room N-5416, 200 Constitution Avenue, NW., Washington, DC 20210, not later than 4:45 p.m. est, August 20, 2001. Hand-delivered applications must be received by the Procurement Services Center by that time.

ADDRESSES: Grant applications must be hand delivered or mailed to U.S. Department of Labor, Procurement Services Center, Attention: Grant Officer, Reference SGA 01-08, Room N-5416, 200 Constitution Avenue, NW., Washington, DC 20210. Applicants must verify delivery to this office directly through their delivery service and as soon as possible.

FOR FURTHER INFORMATION, CONTACT: Applications will not be mailed. The Federal Register may be obtained from your nearest government office or library. Questions concerning this solicitation may be sent to Cassandra Willis at the following Internet address: willis-cassandra@dol.gov.

Late Proposals

The grant application package must be received at the designated place by the date and time specified or it will not be considered. Any application received at the Procurement Services Center after 4:45 p.m. EST, August 20, 2001, will not be considered unless it is received before the award is made and:

1. It was sent by registered or certified mail not later than the fifth calendar day before August 20, 2001;

2. It is determined by the Government that the late receipt was due solely to mishandling by the Government after receipt at the U.S. Department of Labor at the address indicated; or

3. It was sent by U.S. Postal Service Express Mail Next Day Service-Post Office to Addressee, not later than 5:00 p.m. at the place of mailing two (2) working days, excluding weekends and Federal holidays, prior to August 20, 2001.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise place impression(not a postage meter machine impression) that is readily identifiable without further action as having been applied and affixed by an employee of the U.S. Postal Service on the date of mailing. Therefore, applicants should request the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office. Applications sent by telegram or facsimile (FAX) will not be accepted.

SUPPLEMENTARY INFORMATION:

I. Authority

Consolidated Appropriations Act, 2001, Public Law 106-554, 114 STAT 2763A-10, 29 USC 557(b).

II. Background

The U.S. Department of Labor's new Office of Disability Employment Policy (ODEP), the sponsoring agency of this SGA, was formed under the authority of the DOL's fiscal year 2001 appropriations, and by a supporting Executive Order transferring the assets of the former President's Committee on Employment of People with Disabilities (PCEPD) to this new DOL office. ODEP operates a number of programs which are designed to assist with the employment and training of persons with disabilities, including youths with disabilities.

The current expectations of both public education and workforce development systems, as well as employers, parents and young people with disabilities often fail to over look the potential that young people with disabilities have for jobs and careers in technology-related occupations. As a result, youths with disabilities are seldom afforded post-secondary preparation and educational opportunities leading to internships and placements in technology-related careers. This is significant of potential when we realize that: (1) People with disabilities have already demonstrated that they can be successful in these occupations; (2) technology jobs represent an ever increasing segment of the workforce; and, (3) many current school-to-careers initiatives do not always meaningfully include students with disabilities.

The Workforce Investment Act (WIA) youth-focused programs and activities hold tremendous potential to support career development activities for young people with disabilities. High School/High Tech (HS/HT) is an existing program that has proven effective at getting high school aged youth with disabilities interested in technology careers. By linking these two existing programs, students with disabilities will have the opportunity to participate in meaningful school-to-career initiatives.

HS/HT programs currently operate in 60 communities, across the nation. As HS/HT is a community-based partnership, different entities run the local HS/HT operations across the country. Current HS/HT operators include non-profits (Goodwill Industries, Centers for Independent Living, United Cerebral Palsy Affiliates, National Urban League, NAACP, and others) and school districts. Funding for the sites is managed locally. Therefore, funding comes from a variety of local, state, and national resources.

HS/HT graduates with disabilities demonstrate at least a doubling of postsecondary education achievements. In some HS/HT programs, as many as 70% of their HS/HT graduates move on to postsecondary education. HS/HT clearly enhances expectations, educational achievements and eventual employment outcomes for a population who, without this intervention, is far more likely to move onto the Supplemental Security Income (SSI) or Social Security Disability Insurance (SSDI) rolls than to find competitive employment in technology related occupations. As a community-based program, the HS/HT program works within community systems to help coordinate the delivery of education and transition services to students with disabilities. Locally based HS/HT programs represent community-based partnerships of stakeholders that include employers, educators, consumers, family members, workforce system agencies, and rehabilitation professionals. The HS/HT program offers local WIA programs proven techniques for developing improved systems and employment outcomes for young people with disabilities.

The goals of HS/HT match WIA's youth programming themes of employment preparation, educational achievement, support, and leadership. The HS/HT model includes eight of the ten WIA required youth programming elements:

1. Summer employment opportunities;

2. Work experience;

3. Occupational skills training;

4. Tutoring;

5. Support services;

6. Adult mentoring;

7. Comprehensive guidance; and

8. Leadership development, as described in WIA, sec. 129 (c).

Nonetheless, WIA and HS/HT programs have different areas of expertise. By linking these two programs, youth who are often under served and misunderstood will receive effective and appropriate services.

Under a separate SGA, applications are being sought for a proposed WIA Disability Technical Assistance Consortium for Youth. Among its responsibilities will be to provide technical assistance support to the new HS/HT demonstrations, proposed to be initially funded under this SGA, as well as to support the broader HS/HT network of programs, helping to integrate them into existing WIA youth programs. Ultimately, it is envisioned that the HS/HT Program will become one more model program helping national WIA youth initiatives better serve youth with disabilities.

III. Purpose

The purpose of this SGA is to create new HS/HT programs that will coordinate their operations with WIA youth programs that will demonstrate how they can be mutually supportive and reach a common goal.

ODEP operates a number of programs that are designed to assist with the employment and training of persons with disabilities, including youth with disabilities. One of ODEP's key youth programs is the High School/High Tech (HS/HT) program.

The High School/High Tech programs work with community systems to coordinate the delivery of educational and transitional services to youths with disabilities. Local High School/High Tech programs represent partnerships of local, state and national stakeholders that include employers, educators, rehabilitation professionals, consumers, and parents. The High School/High Tech Program works to provide universities and community colleges with future students and to provide high tech businesses with qualified potential candidates with disabilities.

As a community-based, work-based, and school-based program, High School/High Tech is designed to provide opportunities for students with disabilities to explore careers in technology related occupations. HS/HT students across the nation learn first-hand what it's like to work in high tech environments. Site visits, mentoring, job/career shadowing, and paid summer internships all provide students with the opportunities to learn more about careers in science, engineering and technology-related fields. HS/HT students also work on developing career goals. In localities where a HS/HT program is in place, 20 percent to 70 percent of the program participants go on to post-secondary education. The national average for the population, without this intervention, is six percent to nine percent (American Council on Education, 1999).

To learn about the structure and operations of the High School/High Tech Program, consult the High School/High Tech Program Guide at: http://www.dol.gov/dol/odep/public/pubs/hsht00/toc.htm.

IV. Statement of Work

The Project Narrative, of the grant application must provide complete information on how the applicant will address the requirements of this SGA outlined here. All grantees must:

1. Establish either leadership from, or a strong working relationship with a WIA youth-related entity or program (area Youth Councils, Job Corps Centers, Youth Opportunity Grantees, WIA Formula-Funded Youth Programs, WIA Native American programs or WIA Migrant Worker programs), in partnership with other community partners (e.g., area disability organizations, state or local committees on employment of people with disabilities, centers for independent living, special education, vocational rehabilitation, interested employers) in the establishment and operation of a HS/HT program for their locality;

2. Identify how the HS/HT model can provide WIA youth-related programs with a program model designed to improve the continuing (post-secondary) education and employment outcomes for high school age young people with disabilities;

3. Identify how the HS/HT model can deliver WIA's youth program themes and required elements to young people with disabilities;

4. Describe a plan to serve 10-30 young people with disabilities annually, by providing the core elements of a HS/HT program (corporate site visits, mentioning, job shadowing, relevant guest speakers, after school activities and paid summer internships);

5. Document their willingness to cooperate with ODEP and its technical assistance efforts to provide information and advice to other WIA youth programs on the how the HS/HT model can be replicated;

6. Describe plans to report demographic characteristics of program participants, types of programming activities and program outcomes (post-secondary education and employment) of youth with disabilities served through HS/HT;

7. Describe the strategy for gaining the support of area employers, people with disabilities and their family members;

8. Identify the potential and confirmed sources of funds or in-kind/goods and services and estimated dollar values; and,

9. Describe how the needs of individuals with disabilities from diverse cultures and/or ethnic groups will be addressed.

V. Funding Availability

The period of performance will be 12 months from the date of execution by the Government. The grant may be renewed with an additional optional grant for a second 12 months at $25,000. After these two years of support, it is anticipated that HS/HT programs will sustain themselves with the support of other resources.

VI. Eligible Applicants

All non-profit organizations and agencies, including faith-based organizations, capable of starting and successfully operating a High School/High Tech program, in alignment with a WIA youth program, are eligible. This includes not-for-profit organizations, established under Section 501(c)(3) of the Internal Revenue Code, secondary and post-secondary educational institutions, a Job Corps center (no fee/profit allowed), an entity of local government, or a local Workforce Investment Board.

Please Note That Eligible Grant Applicants Must Not be Classified Under the Internal Revenue Code as a 501(c)(4) Entity. See 26 U.S.C. 506(c)(4). According to Section 18 of the Lobbying Disclosure Act of 1995, an organization, as described in Section 501(c)(4) of the Internal Revenue Code of 1986, that engages in lobbying activities will not be eligible for the receipt of federal funds constituting an award, grant, or loan.

VII. Application Contents

There are three required sections of the application. Requirements for each are provided in this application package.

Section I—Executive Summary

Section II—Project Narrative

Section III—Budget Information

General Requirements—Three copies and an original of the proposal must be submitted, one of which must contain an original signature. Proposals must be submitted by the applicant only.

Application—Section I; Executive Summary

Limited to no more than two single spaced, single sided pages, each application must provide an executive summary, which identifies the following:

1. The type of organization the applicant represents;

2. WIA-related leadership/partnership arrangement;

3. Any additional consortium partners and the type of organization they represent;

4. The geographic service area;

5. The service area, whether an area within or a whole local workforce investment area, or, more than one workforce investment area; and

6. The planned period of performance (projected annually through a two year cycle, assuming grant renewal award).

Application—Section II; Project Narrative

The Project Narrative format shall be no more than 20 double spaced, single sided, numbered pages. Each Project Narrative should meet the statement of work outlined in section IV above.

Application—Section III; Budget Information

Applications must also include a detailed financial plan which identifies by line item the budget plan designed to achieve the goals of this grant. The Financial Proposal must contain the SF-424, Application for Federal Assistance, (Appendix A) and Budget Information Sheet SF-424A (Appendix B).

In addition, the budget must include on a separate page a detailed cost analysis of each line item. Justification for administrative costs must be provided. Approval of a budget by DOL is not the same as the approval of actual costs. The individual signing the SF-424 on behalf of the applicant must represent the responsible financial and administrative entity for a grant should that application result in an award. The applicant must also include the Assurances and Certifications Signature Page (Appendix C).

VIII. Evaluation Criteria/Selection

A. Evaluation Criteria

The application must include appropriate information of the type described below.

1. Significance of the Proposed Project (15 Points)

In evaluating the significance of the proposed project, the Department will consider the following factors:

a. The current employment issues/circumstances facing young people with disabilities in the area to be served.

b. The numbers of young persons with disabilities in the area to be served who are in special education, general education or out of school who are expected to be served by under this grant.

c. The related issues that need to be addressed in order to better serve youth with disabilities in selected WIA youth entities and programs (area Youth Councils, Job Corps Centers, Youth Opportunity Grantees, WIA Formula-Funded Youth Programs, WIA Native American or WIA Migrant Worker programs) and how this proposed HS/HT program can help impact these issues.

2. Quality of the Proposed Project (30 Points)

In evaluating the quality of the proposed project, the Department will consider the following factors:

a. The plan for cooperation with WIA youth programs (Local Boards, including their Youth Councils, Job Corps Centers, Youth Opportunity Grantees, WIA Youth Formula-Funded Programs, WIA Native American or WIA Migrant Worker programs) in partnership with other community partners (e.g., area disability organizations, state or local committee on employment of people with disabilities, centers for independent living, special education, vocational rehabilitation, interested employers, and family groups) in the establishment and operation of a HS/HT program for their locality.

b. How the HS/HT program will provide selected WIA youth-related programs with a program model responding to WIA's youth themes and elements, to improve the continuing (post-secondary) education and employment outcomes for high school age young people with disabilities.

c. The plan for recruiting and serving 10-30 young people with disabilities, for each of the possible two years of funding, with the core elements of a HS/HT program (corporate site visits, mentioning, job shadowing, relevant guest speakers, after school activities and paid summer internships).

d. The plan for tracking the demographic characteristics of program participants, types of programming activities conducted as well as HS/HT participant outcomes. These include:

1. Numbers of youths with disabilities placed in competitive employment, including paid internships;

2. Numbers of youths with disabilities who continue with post secondary education; and,

3. Comparative data on local youths with disabilities not served in the HS/HT program.

e. The plan for tracking progress in developing WIA partnerships; using related resources (WIA Youth Programs); regional and national leadership activities to help WIA Youth programs consider the HS/HT model in their area; and, assessing the overall impact of the model HS/HT program on a broader community response to the employment and training needs of youths with disabilities in the community.

3. Collaboration and Coordination (20 Points)

In evaluating the collaboration and coordination of the proposed project, the Department will consider the following factors:

a. Statement(s) of support and leadership from one or more of your area's Youth Council, Job Corps Centers, Youth Opportunity Grant Programs, WIA Formula Funded Youth Programs, WIA Native American or WIA Migrant Worker program.

b. Support from key community organizations, especially special education (Individualized Education Plan—IEP coordination, where applicable) and vocational rehabilitation organizations.

c. Support from area employers, people with disabilities and family members.

d. Demonstrated financial commitment from community or state partners.

4. Innovations and Model Services (20 Points)

In evaluating the innovations and model services of the proposed project, the Department will consider the following factors:

a. Strategies to cooperate in ODEP's technical assistance efforts providing information and advice to other WIA youth programs on the how the HS/HT model can be replicated by them in their communities.

b. The plan for sustaining the HS/HT program beyond the one or two year start-up grant by connecting it with an area WIA youth program.

c. The strategy for meeting the needs of youth with disabilities from diverse cultures and/or ethic groups. (Note: the NAACP, National Urban League, and La Raza all operate at least one model HS/HT program dedicated to serving minority youth with disabilities, hence a potential exists to connect with your area's affiliate of these organizations).

5. Demonstrated Capability of the Organizations (15 Points)

In evaluating the demonstrated capability of the organization(s) involved in proposed project, the Department will consider the following factors.

a. The names and qualifications of staff and related technical experts to support the objectives of this SGA.

b. Examples of prior successes in serving youths with disabilities.

B. Selection Criteria

Acceptance of a proposal and an award of federal funds to sponsor any program(s) is not a waiver of any grant requirement and/or procedures. Grantees must comply with all applicable Federal statutes, regulations, administrative requirements and OMB Circulars. For example, the OMB circulars require, and an entity's procurement procedures must require that all procurement transaction shall be conducted, as practical, to provide open and free competition. If a proposal identifies a specific entity to provide the services, the award does not provide the justification or basis to sole-source the procurement, i.e., avoid competition.

A panel will objectively rate each complete application against the criteria described in this SGA. The panel recommendations to the Grant Officer are advisory in nature. The Grant Officer may elect to award grants either with or without discussion with the applicant. In situations where no discussion occurs, an award will be based on the signed SF 424 form (see Appendix A), which constitutes a binding offer. The Grant Officer may consider the availability of funds and any information that is available and will make final award decisions based on what is most advantageous to the government, considering factors such as:

A. Findings of the grant technical evaluation panel; and,

B. Geographic distribution of the competitive applications.

IX. Reporting

Grantees are required to provide typed reports to DOL/ODEP or its designee on the status of their program on a quarterly basis by March 30, June 30, September 30, and December 31, for a one year period. It is estimated that the quarterly report will take five hours to complete.

The grantee must also furnish a separate financial report to ODEP on the quarterly basis mentioned above.

X. Administration Provisions

A. Administrative Standards and Provisions

Grantees are strongly encouraged to read these regulations before submitting a proposal. The grant awarded under this SGA shall be subject to the following, as applicable:

29 CFR part 95—Uniform Administrative Requirements for Grants and Cooperative Agreements with Institutions of Higher Education, etc.

29 CFR part 96—Federal Standards for Audit of Federally Funded Grants, Contracts, and Agreements.

29 CFR part 97—Uniform Administrative Requirement for Grants and Cooperative Agreements to State and Local Governments.

B. Allowable Cost

Determinations of allowable costs shall be made in accordance with the following applicable Federal cost principles:

State and Local Government—OMB Circular A-87

Nonprofit Organizations—OMB Circular A-122

Profit-making Commercial Firms—48 CFR Part 31

Profit will not be considered an allowable cost in any case.

Signed at Washington, DC this 17th day of July, 2001.
Daniel P. Murphy,
Grant Officer.

Appendix A. Application for Federal Assistance, Form SF 424

Appendix B. Budget Information Sheet, Form SF 424A

Appendix C. Assurances and Certifications Signature Page

INSTRUCTIONS FOR THE SF-424

Public reporting burden for this collection of information is estimated to average 45 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0043), Washington, DC 20503.

Please do not return your completed form to the Office of Management and Budget. Send it to the address provided by the sponsoring agency.

This is a standard form used by applicants as a required face sheet for preapplication submitted for federal assistance. It will be used by Federal agencies to obtain applicant certification that States which have established a review and comment procedure in response to Executive Order 12372 and have selected the program to be included in their process, have been given an opportunity to review the applicant's submission.

Item and entry:

1. Self-explanatory.

2. Date application submitted to federal agency (or State if applicable) and applicant's control number (if applicable).

3. State use only (if applicable),

If this application is to continue or revise an existing award, enter present Federal identifier number. If for a new project, leave blank.

5. Legal name of applicant, name of primary organizational unit which will undertake the assistance activity, complete address of the applicant, and name and telephone number of the person to contact on matters related to this application.

6. Enter Employer Identification Number (EIN) as assigned by the Internal Revenue Service.

7. Enter the appropriate letter in the space provided.

8. Check appropriate box and enter appropriate letter(s) in the space(s) provided:

—“New” means a new assistance award.

—“Continuation” means an extension for an additional funding/budget period for a project with a projected completion date.

—“Revision” means any change in the Federal Government's financial obligation or contingent liability from an existing obligation.

9. Name of Federal agency from which assistance is being requested with this application.

10. Use the Catalog of Federal Domestic Assistance number and title of the program under which assistance is requested.

11. Enter a brief descriptive title of the project. If more than one program is involved, you should append an explanation on a separate sheet. If appropriate (e.g., construction or real property projects), attach a map showing project location. For preapplications, use a separate sheet to provide a summary description of this project.

12. List only the largest political entities affected (e.g., State, countries, cities).

13. Self-explanatory.

14. List the applicant's Congressional District and any District(s) affected by the program or project.

15. Amount requested or to be contributed during the first funding/budget period by each contributor. Value of in kind contributions should be included on appropriate lines as applicable. If the action will result in a dollar change to an existing award, indicate only the amount of the change. For decreases, enclose the amounts in parentheses. If both basic and supplemental amounts are included, show breakdown on an attached sheet. For multiple program funding, use totals and show breakdown using same categories as item 15.

16. Applicants should contact the State Single Point of Contact (SPOC) for Federal Executive Order 12372 to determine whether the application is subject to the State intergovernmental review process.

17. The question applies to the applicant organization, not the person who signs as the authorized representative. Categories of debt includes delinquent audit disallowances, loans and taxes.

18. To be signed by the authorized representative of the applicant. A copy of the governing body's authorization for you to sign this application as official representative must be on file in the applicant's office. (Certain Federal agencies may require that this authorization be submitted as part of the application).

BILLING CODE 4510-23-P

BILLING CODE 4510-23-C

Instructions for the SF-424a

Public reporting burden for this collection of information is estimated to average 180 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0044), Washington, DC 20503.

Please do not return your completed form to the Office of Management and Budget. Send it to the address provided by the sponsoring agency.

General Instructions

This form is designed so that application can be made for funds from one or more grant programs. In preparing the budget, adhere to any existing Federal grantor agency guidelines which prescribe how and whether budgeted amounts should be separately shown for different functions or activities within the program. For some programs, grantor agencies may require budgets to be separately shown by function or activity. For other programs, grantor agencies may require a breakdown by function or activity. Sections A, B, C, and D should include budget estimates for the whole project except when applying for assistance which requires Federal authorization in annual or other funding period increments. In the latter case, Sections A, B, C, and D should provide the budget for the first budget period (usually a year) and Section E should present the need for Federal assistance in the subsequent budget periods. All applications should contain a breakdown by the object class categories shown in Lines a-k of Section B.

Section A. Budget Summary Lines 1-4 Columns (a) and (b)

For applications pertaining to a single Federal grant program (Federal Domestic Assistance Catalog number) and not requiring a functional or activity breakdown, enter on Line 1 under Column (a) the Catalog program title and the Column number in Column (b).

For applications pertaining to a single program requiring budget amounts by multiple functions or activities, enter the name of each activity or function on each line in Column (a), and enter the Catalog number in Column (b). For applications pertaining to multiple programs where none of the programs require a breakdown by function or activity, enter the Catalog program title on each line in Column (a) and the respective Catalog number on each line in Column (b).

For applications pertaining to multiple programs where one or more programs require a breakdown by function or activity, prepare a separate sheet for each program requiring the breakdown. Additional sheets should be used when one form does not provide adequate space for all breakdown of data required. However, when more than one sheet is used, the first page should provide the summary totals by programs.

Lines 1-4, Columns (c) through (g)

For new applications, leave Column (c) and (d) blank. For each line entry in Columns (a) and (b), enter in Columns (e), (f), and (g) the appropriate amounts of funds needed to support the project for the first funding period (usually a year).

For continuing grant program applications, submit these forms before the end of each funding period as required by the grantor agency. Enter in Columns (c) and (d) the estimated amounts of funds which will remain unobligated at the end of the grant funding period only if the Federal grantor agency instructions provide for this. Otherwise, leave these columns blank. Enter in columns (e) and (f) amounts of funds needed for the upcoming period. The amount(s) in Column (g) should be the sum of amounts in Columns (e) and (f).

For supplemental grants and changes to existing grants, do not use Columns (c) and (d). Enter in Column (e) the amount of the increase or decrease of Federal funds and enter in Column (f) the amount of the increase or decrease of non-Federal funds. In Column (g) enter the new total budgeted amount (Federal and non-Federal) which includes the total previous authorized budgeted amounts plus or minus, as appropriate, the amounts shown in Columns (e) and (f). The amount(s) in Column (g) should not equal the sum of amounts in Columns (e) and (f).

Line 5—Show the totals for all columns used.

Section B Budget Categories

In the column headings (1) through (4), enter the titles of the same programs, functions, and activities shown on Lines 1-4, Column (a), Section A. When additional sheets are prepared for Section A, provide similar column headings on each sheet. For each program, function or activity, fill in the total requirements for funds (both Federal and non-Federal) by object class categories.

Line 6a-i—Show the totals of Lines 6a to 6h in each column.

Line 6j—Show the amount of indirect cost.

Line 6k—Enter the total of amounts on Lines 6i and 6j. For all applications for new grants and continuation grants the total amount in column (5), Line 6k, should be the same as the total amount shown in Section A, Column (g), Line 5. For supplemental grants and changes to grants, the total amount of the increase or decrease as shown in Columns (1)-(4), Line 6k should be the same as the sum of the amounts in Section A, Columns (e) and (f) on Line 5.

Line 7—Enter the estimated amount of income, if any, expected to be generated from this project. Do not add or substract this amount from the total project amount, Show under the program narrative statement the nature and source of income. The estimated amount of program income may be considered by the Federal grantor agency in determining the total amount of the grant.

Section C. Non-Federal Resources

Lines 8-11 Enter amounts of non-Federal resources that will be used on the grant. If in-kind contributions are included, provide a brief explanation of a separate sheet.

Column (a)—Enter the program titles identical to Column (a), Section A. A breakdown by function or activity is not necessary.

Column (b)—Enter the contribution to be made by the applicant.

Column (c)—Enter the amount of the State's cash and in-kind contribution if the applicant is not a State or State agency. Applicants which are a State or State agencies should leave this column blank.

Column (d)—Enter the amount of cash and in-kind contributions to be made from all other sources.

Column (e)—Enter the totals of Columns (b), (c), and (d).

Line 12—Enter the total for each of Columns (b)—(e). The amount in Column (e) should be equal to the amount on Line 5, Column (f), Section A.

Section D. Forecasted Cash Needs

Line 13—Enter the amount of cash needed by quarter from the grantor agency during the first year.

Line 14—Enter the amount of cash from all sources needed by quarter during the first year.

Line 15—Enter the totals of amounts on lines 13 and 14.

Section E. Budget Estimates of Federal Funds Needed for Balance of the Project

Lines 16—19—Enter in Column (a) the same grant program titles shown in Column (a), Section A. A breakdown by function or activity is not necessary. For new applications and continuation grant applications, enter in the proper columns amounts of Federal funds which will be needed to complete the program or project over the succeeding funding periods (usually in years). This section need not be completed for revisions (amendments, changes, or supplements) to funds for the current year of existing grants.

If more than four lines are needed to list the program titles, submit additional schedules as necessary.

Line 20—Enter the total for each of the Columns (b)—(e). When additional schedules are prepared for this Section, annotate accordingly and show the overall totals on this line.

Section F. Other Budget Information

Line 21—Use this space to explain amounts for individual direct object class cost categories that may appear to be out of the ordinary or to explain the details as required by the Federal grantor agency.

Line 22—Enter the type of indirect rate (provisional, predetermined, final or fixed) that will be in effect during the funding period, the estimated amount of the base to which the rate is applied, and the total indirect expense.

Line 23—Provide any other explanations or comments deemed necessary.

BILLING CODE 4510—23—P

[FR Doc. 01-18208 Filed 7-19-01; 8:45 am]

BILLING CODE 4510-23-C